DEPARTMENT OF HOMELAND SECURITY

[Docket No. DHS-2019-0046]

Privacy Act of 1974: Implementation of Exemptions; Department of Homeland Security/ALL-043 Enterprise Biometric Administrative Records (EBAR) System of Records

AGENCY: Department of Homeland Security.

ACTION: Notice of reopening of the comment period.

SUMMARY: The Department of Homeland Security is reopening the comment period for the proposed rulemaking associated with the Enterprise Biometric Administrative Records system of records notice published on March 16, 2020. This action will provide the public with additional time and opportunity to provide the Department of Homeland Security with information regarding the Enterprise Biometric Administrative Records system of records. The comment period is reopened until May 19, 2020.

DATES: The comment period for the notice published on March 16, 2020 (85 FR 14955) is reopened. Comments must be submitted to the online docket via https://www.regulations.gov on or before May 19, 2020.

ADDRESSES: You may submit comments identified by docket number DHS-2019-0046 using the Federal eRulemaking Portal at https://www.regulations.gov. All submissions received must include the agency name and docket number DHS-2019-0046. All comments received will be posted without change to http://www.regulations.gov, including any personal information provided. Docket: For access to the docket to read background documents or comments received, go to http://www.regulations.gov.

FOR FURTHER INFORMATION CONTACT: For information about this document call or email Constantina Kozanas, privacy@hq.dhs.gov, (202) 343-1717, Chief Privacy Officer, Privacy Office, Department of Homeland Security, Washington, DC 20528-0655.

SUPPLEMENTARY INFORMATION: This notice provides the public additional time and opportunity to provide the Department of Homeland Security with information regarding the proposed rulemaking associated with the Enterprise Biometric Administrative Records system of records first published on March 16, 2020. 85 FR 14805. We encourage you to review the initial notice and submit comments (or related material) on the proposed rulemaking associated with the Enterprise Biometric Administrative Records system of records notice. We will consider all submissions and may adjust our final action based on your comments. If you submit a comment, please include the docket number for this notice, indicate the specific section of this document to which each comment applies, and provide a reason for each suggestion or recommendation.

Constantina Kozanas,
Chief Privacy Officer, Department of Homeland Security.

[FR Doc. 2020-09530 Filed 5-4-20; 8:45 am]

BILLING CODE 9910-9B-P